INTERNATIONAL TRADE COMMISSION

[Investigation Nos. 731-TA-639 and 640 (Second Review)]

Forged Stainless Steel Flanges from India and Taiwan

Determinations

On the basis of the record ¹ developed in the subject five-year reviews, the United States International Trade Commission (Commission) determines,² pursuant to section 751(c) of the Tariff Act of 1930 (19 U.S.C. 1675(c)) (the Act), that revocation of the antidumping duty orders on forged stainless steel flanges from India and Taiwan would be likely to lead to continuation or recurrence of material injury to an industry in the United States within a reasonably foreseeable time.

¹ The record is defined in sec. 207.2(f) of the Commission's Rules of Practice and Procedure (19 CFR 207.2(f)).

² Commissioner Daniel R. Pearson dissenting with respect to forged stainless steel flanges from Taiwan.

Background

The Commission instituted these reviews on July 1, 2005 (70 FR 38195) and determined on October 4, 2005, that it would conduct expedited reviews (70 FR 60558, October 18, 2005).

The Commission transmitted its determinations in these investigations to the Secretary of Commerce on December 16, 2005. The views of the Commission are contained in USITC Publication 3827 (December 2005), entitled Forged Stainless Steel Flanges from India and Taiwan: Investigation Nos. 731-TA-639 and 640 (Second Review).

Issued: December 16, 2005.
By order of the Commission.
Marilyn R. Abbott,
Secretary to the Commission.

[FR Doc. E5-7678 Filed 12-21-05; 8:45 am]

BILLING CODE 7020-02-P